DEPARTMENT OF STATE

[Public Notice 11329]

Notice of Department of State Sanctions Actions on Hong Kong Normalization.

SUMMARY: The Secretary of State has imposed sanctions on four individuals pursuant to Executive Order 13936, the President's Executive Order on Hong Kong Normalization.

DATES: The Secretary of State's determination regarding the four individuals identified in the SUPPLEMENTARY INFORMATION section was effective on November 9, 2020.

FOR FURTHER INFORMATION CONTACT: Taylor Ruggles, Director, Office of Economic Sanctions Policy and Implementation, Bureau of Economic and Business Affairs, Department of State, Washington, DC 20520, tel.: (202) 647 7677, email: RugglesTV@state.gov.

SUPPLEMENTARY INFORMATION: Pursuant to Section 4(a)(iii)(A) of E.O. 13936 the Secretary of State, in consultation with the Secretary of the Treasury, or the Secretary of the Treasury, in consultation with the Secretary of State may authorize blocking of all property or interests in property that are in the United States, that hereafter come within the United States, or that are in or hereafter come within the possession or control of any United States person, of any foreign person upon determining that the person is or has been a leader or official of any entity, including any government entity, that has engaged in, or whose members have engaged in, developing, adopting, or implementing the Law of the People's Republic of China on Safeguarding National Security in the Hong Kong Administrative Region (the “National Security Law”), or in actions or policies that threaten the peace, security, stability, or autonomy of Hong Kong.

The Secretary of State has determined, pursuant to section 4(a)(iii)(A) of E.O. 13936, that Li Jiangzhou, Edwina Lau, and Steve Li Kwai-Wah are or have been leaders or officials of entities, including any government entity, that have engaged in, or whose members have engaged in, developing, adopting, or implementing the National Security Law, and approved the Department of the Treasury adding them to the Specially Designated Nationals and Blocked Person List (SDN List). All property and interests in property subject to U.S. jurisdiction of these individuals are blocked, and U.S. persons are generally prohibited from engaging in transactions with them.

The Secretary of State has determined that Deng Zhonghua is or has been a leader or official of an entity, including any government entity, that has engaged in, or whose members have engaged in, actions or policies that threaten the peace, security, stability or autonomy of Hong Kong, pursuant to section 4(a)(iii)(A) of E.O. 13936, and approved OFAC adding him to the SDN List. All property and interests in property subject to U.S. jurisdiction of these individuals are blocked, and U.S. persons are generally prohibited from engaging in transactions with them.

Peter Haas,
Principal Deputy Assistant Secretary, Bureau of Economic and Business Affairs, Department of State.

[FR Doc. 2021-01274 Filed 1-21-21; 8:45 am]

BILLING CODE 4710-AE-P